SMALL BUSINESS ADMINISTRATION

13 CFR Parts 115, 121, 125, and 126

RIN 3245-AG38

Small Business HUBZone Program; Government Contracting Programs

AGENCY: U.S. Small Business Administration.

ACTION: Proposed rule; extension of comment period.

SUMMARY: On October 31, 2018, the U.S. Small Business Administration (SBA or Agency) published a notice of proposed rulemaking in the Federal Register to solicit public comments on proposed comprehensive revisions to the regulations governing the Historically Underutilized Business Zone (HUBZone) Program. This document announces the extension of the current comment period until February 14, 2019.

DATES: The comment period for the notice of proposed rulemaking published on October 31, 2018 (83 FR 54812) is extended until February 14, 2019.

ADDRESSES: You may submit comments, identified by RIN 3245-AG38, by any of the following methods:

• Federal eRulemaking Portal: http://www.regulations.gov; follow the instructions for submitting comments; or

• Mail/Hand Delivery/Courier: U.S. Small Business Administration, Attn: Arthur E. Collins, Jr., Deputy Director, HUBZone Program, 409 Third Street SW, 8th Floor, Washington, DC 20416.

Instructions: All submissions received must include the Agency name and Regulatory Information Number (RIN) for this rulemaking. SBA will post all comments to this notice of proposed rulemaking on http://www.regulations.gov. If you wish to submit confidential business information (CBI) as defined in the User Notice at http://www.regulations.gov, please submit such information to the U.S. Small Business Administration, Attn: Arthur E. Collins, Jr., Deputy Director, HUBZone Program, 409 Third Street SW, 8th Floor, Washington, DC 20416. Highlight the information that you consider to be CBI and explain why you believe this information should be held confidential. SBA will make a final determination as to whether the information will be published or not.

FOR FURTHER INFORMATION CONTACT: Arthur E. Collins, Jr., Deputy Director, HUBZone Program, 409 Third Street SW, 8th Floor, Washington, DC 20416; telephone: 202-205-6285; email: hubzone@sba.gov.

SUPPLEMENTARY INFORMATION: On October 31, 2018, SBA published a notice of proposed rulemaking at 83 FR 54812 to solicit comments on its proposal to amend its regulations for the HUBZone Program to reduce the regulatory burdens imposed on HUBZone small business concerns and government agencies, to implement new statutory provisions, and to eliminate ambiguities in the regulations. SBA also proposed comprehensive revisions to the HUBZone regulations to clarify current HUBZone Program policies and procedures and to make changes that will benefit the small business community by making the HUBZone program more efficient and effective. This proposed rulemaking, which is identified by RIN 3245-AG38, is also available at https://www.regulations.gov/document?D=SBA-2018-0005-0001.

The Agency requested comments on specific approaches for the changes contemplated in the proposed rulemaking. Initially, SBA established a 60-day comment period for the proposed rule, with a closing date of December 31, 2018. Due to the scope and significance of the changes contemplated by the proposed rule, SBA believes that affected businesses need more time to review the changes and prepare their comments. The Agency is therefore extending the comment period until February 14, 2019.

Robb N. Wong,
Associate Administrator, Government Contracting and Business Development.

[FR Doc. 2018-28320 Filed 12-28-18; 8:45 am]

BILLING CODE 8025-01-P